NUCLEAR REGULATORY COMMISSION

Twenty-Eighth Water Reactor Safety Meeting

AGENCY: Nuclear Regulatory Commission.

ACTION: Notice of meeting.

SUMMARY: The Twenty-Eighth Water Reactor Safety Meeting (WRSM) will be held on October 23-25, 2000, 8 a.m.-5:30 p.m. at the Bethesda Marriott Hotel, 5151 Pooks Hill Road, Bethesda, Maryland.

Ashok C. Thadani, Director, Office of Nuclear Regulatory Research, will open the Water Reactor Safety Meeting on Monday, October 23, 2000, with NRC Chairman Richard Meserve, the keynote speaker.

An expert panel recognizing the 25th anniversary of the Reactor Safety Study (WASH-1400) and a discussion of the lessons learned will follow Chairman Meserve. Panel members include George Apostolakis, Massachusetts Institute of Technology; Adolf Birkhofer, Scientific Director, Gesellschaft fur Analagen-und Reaktorsicherheit (GRS) mbH; Robert Budnitz, Future Resources Associates; Richard Denning, Battelle Columbus Laboratories; B. John Garrick, Chairman, NRC Advisory Committee on Nuclear Waste; Harold Lewis, University of California Santa Barbara; and Ashok Thadani and Joseph Murphy, NRC.

The Massachusetts Institute of Technology will host a luncheon featuring guest speaker Dr. John F. Ahearne, former NRC Chairman, in celebration of the 25th anniversary of the release of the Reactor Safety Study and to honor Professor Norman Rasmussen and Saul Levine.

Commissioner Nils J. Diaz will be a guest speaker in the afternoon followed by an expert panel addressing the future challenges for risk-informed regulation. Panel members will include David Lochbaum, Union of Concerned Scientists; Dana Powers, Chairman, NRC Advisory Committee on Reactor Safeguards; Brian Sheron, Associate Director for Project Licensing and Technical Analysis, NRC Office of Nuclear Reactor Regulation; Margaret Federline, Deputy Director, NRC Office of Nuclear Regulatory Research. Dr. William Travers, NRC Executive Director for Operations, will serve as moderator for this panel. Technical sessions will be held for the remainder of the afternoon.

Commissioner Greta J. Dicus will be a guest speaker at 8:30 a.m. on Tuesday, October 24, 2000, followed by three technical sessions that will last until noon. Elsevier Science, on behalf of the Journal of Nuclear Engineering Design, will host a luncheon to mark Professor Karl Kussmaul's role as Principal Editor. Dana Powers, Chairman, NRC Advisory Committee on Reactor Safeguards, will also be a guest speaker. Technical sessions will follow the luncheon and will be held for the remainder of the afternoon.

On Wednesday, October 25, 2000, at 8:30 a.m., Commissioner Jeffrey S. Merrifield will be a guest speaker, followed by an expert panel to address the future role of nuclear power and the need for nuclear regulatory research. Panel members will include Joe Colvin, President and Chief Executive Officer, Nuclear Energy Institute; Theodore Marston, Vice President and Chief Nuclear Officer, Electric Power Research Institute; Robert Budnitz, Future Resources Associates; David Lochbaum, Union of Concerned Scientists; and Kenneth Mossman, Director, Office of Radiation Safety, Arizona State University. Commissioner Edward McGaffigan will moderate this panel.

Two technical sessions and a rapporteur panel summarizing the discussions of the individual sessions will close out the meeting.

This meeting is international in scope and includes presentations by personnel from the NRC, U.S. Government, DOE national laboratories, private contractors, universities, reactor vendors, and a number of foreign organizations.

The preliminary agenda includes eight technical sessions, which will address risk-informed regulation; dry cask storage and transportation of spent nuclear fuel; high burnup fuel; PWR sump blockage and containment coatings service level 1 safety concerns; digital instrumentation and control; thermal hydraulic and severe accident analysis for reactors and spent fuel; integrity of the reactor coolant pressure boundary; reactor decommissioning; and regulatory effectiveness.

Those who wish to attend are encouraged to register in advance on the WRSM website (www.wrsm.bnl.gov) or by contacting Susan Monteleone, Brookhaven National Laboratory, Department of Nuclear Energy, Building 130, Upton, NY 11973, telephone (631) 344-7235; or Sandra Nesmith (301) 415-6437, Office of Nuclear Regulatory Research, U.S. Nuclear Regulatory Commission, Washington, DC 20555.

Dated at Rockville, Maryland, this 12th day of October 2000.
For the Nuclear Regulatory Commission.
Clare Kasputys,
Deputy Director, Program Management, Policy Development & Analysis Staff, Office of Nuclear Regulatory Research.

[FR Doc. 00-26884 Filed 10-18-00; 8:45 am]

BILLING CODE 7590-01-P